DEPARTMENT OF THE INTERIOR

Fish and Wildlife Service

[FWS-HQ-R-2020-N083; FXGO1664091HCC0-FF09D00000-190]

Hunting and Shooting Sports Conservation Council; Call for Nominations

AGENCY: Fish and Wildlife Service, Interior.

ACTION: Call for nominations; reopening.

SUMMARY: The Secretary of the Interior and the Director of the U.S. Fish and Wildlife Service seek nominations for membership on the Hunting and Shooting Sports Conservation Council (Council). This is a reopening of the call for nominations published in the Federal Register on March 5, 2020. The Council reports to the Secretary of the Interior and the Secretary of Agriculture to provide recommendations regarding the establishment and implementation of conservation endeavors that benefit wildlife resources; encourage partnership among the public, sporting conservation organizations, and Federal, State, Tribal, and territorial governments; and benefit recreational hunting and recreational shooting sports.

DATES: The nomination period announced on March 5, 2020, at 85 FR 12940 is reopened. Nominations via email must be date stamped no later than July 27, 2020.

ADDRESSES: Please address nomination letters to Ms. Aurelia Skipwith, Director, U.S. Fish and Wildlife Service. You may email nominations to Douglas Hobbs, Designated Federal Officer, at doug_hobbs@fws.gov.

FOR FURTHER INFORMATION CONTACT: Douglas Hobbs, Designated Federal Officer, at the email address in ADDRESSES, or by telephone at (703) 358-2336. Individuals who are hearing impaired or speech impaired may call the Federal Relay Service at 800-877-8337 for TTY assistance.

SUPPLEMENTARY INFORMATION: The Secretary of the Interior and the Director of the U.S. Fish and Wildlife Service seek nominations for membership on the Hunting and Shooting Sports Conservation Council (Council). On March 5, 2020, the original call for nominations published in the Federal Register (85 FR 12940), with a 30-day nomination period ending April 6, 2020. This notice provides additional time for nominations (see DATES, above). For more information on the Council's duties, member terms, vacancies to fill, the nomination method, and eligibility, see the March 5, 2020, notice (85 FR 12940).

Authority: 5 U.S.C. Appendix 2.

Barbara Wainman,
Assistant Director—External Affairs.

[FR Doc. 2020-14768 Filed 7-9-20; 8:45 am]

BILLING CODE 4333-15-P